DEPARTMENT OF COMMERCE

National Oceanic and Atmospheric Administration

[RTID 0648-XB730]

Advisory Committee Open Session on Management Strategy Evaluation for Atlantic Bluefin Tuna

AGENCY: National Marine Fisheries Service (NMFS), National Oceanic and Atmospheric Administration (NOAA), Commerce.

ACTION: Notice of meeting.

SUMMARY: NMFS is holding a public meeting via webinar for the Advisory Committee to the U.S. Section to the International Commission for the Conservation of Atlantic Tunas (ICCAT) and all interested stakeholders to receive an update and provide input on the development of the management strategy evaluation for Atlantic bluefin tuna.

DATES: A virtual meeting that is open to the public will be held on February 25, 2022, from 1:30 p.m. to 3 p.m. EST.

ADDRESSES: Please register to attend the meeting at: https://forms.gle/f8L6jxsmstXRC2b47. Registration will close on February 24, 2022, at 5 p.m. EST. Instructions for accessing the virtual meeting will be emailed to registered participants.

FOR FURTHER INFORMATION CONTACT: Bryan Keller, Office of International Affairs and Seafood Inspection, (301) 427-7725 or at Bryan.Keller@noaa.gov.

SUPPLEMENTARY INFORMATION: Management strategy evaluation (MSE) is a process that allows fishery managers and stakeholders (e.g., industry, scientists, and non-governmental organizations) to assess how well different strategies achieve specified management objectives for a fishery. After several years of work, ICCAT expects to finalize its bluefin tuna MSE in 2022 and anticipates adopting a management procedure in November 2022 to set Total Allowable Catch (TACs) for 2023 and future years for both the western Atlantic and eastern Atlantic and Mediterranean stocks of bluefin tuna. NMFS and the United States more broadly participate in this MSE development process and have been engaging stakeholders and considering their input throughout the process through various means, including consultation with the Advisory Committee to the U.S. Section to ICCAT. The United States also participates in the development of the bluefin tuna MSE through active engagement by U.S. scientists in ICCAT's Standing Committee on Research and Statistics (SCRS).

The February 25 meeting is intended to update stakeholders and solicit their input on the MSE approach being developed by ICCAT. This includes SCRS progress in developing initial candidate management procedures (CMPs) illustrating potential management tradeoffs and the related process by ICCAT to refine management objectives to assist the SCRS in further refining and narrowing those CMPs. This open session Advisory Committee meeting is primarily informational in nature and intended to increase the opportunity for stakeholder awareness and input on the bluefin tuna MSE process. Discussions at the meeting will help to inform U.S. scientists who are participating in work of the SCRS. In addition, while no binding decisions or formal, consensus-based recommendations will be made, input provided during the meeting will be considered by the United States to assist its preparations for a March 2022 meeting of ICCAT's Panel 2 and other ICCAT bluefin tuna MSE meetings planned for 2022.

Authority: 16 U.S.C. 971 et seq.; 16 U.S.C. 1801 et seq.

Dated: January 27, 2022.
Alexa Cole,
Director, Office of International Affairs and Seafood Inspection, National Marine Fisheries Service.

[FR Doc. 2022-02020 Filed 1-31-22; 8:45 am]

BILLING CODE 3510-22-P